DEPARTMENT OF THE INTERIOR

National Park Service

[NPS-WASO-NRNHL-23506; PPWOCRADI0, PCU00RP14.R50000]

National Register of Historic Places; Notification of Pending Nominations and Related Actions

AGENCY: National Park Service, Interior.

ACTION: Notice.

SUMMARY: The National Park Service is soliciting comments on the significance of properties nominated before May 20, 2017, for listing or related actions in the National Register of Historic Places.

DATES: Comments should be submitted by July 13, 2017.

ADDRESSES: Comments may be sent via U.S. Postal Service and all other carriers to the National Register of Historic Places, National Park Service, 1849 C St. NW., MS 7228, Washington, DC 20240.

SUPPLEMENTARY INFORMATION: The properties listed in this notice are being considered for listing or related actions in the National Register of Historic Places. Nominations for their consideration were received by the National Park Service before May 20, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARKANSAS

Searcy County

Leslie Commercial Historic District, 319-424 Main and 205 Oak Sts., Leslie, SG100001257

CALIFORNIA

San Bernardino County

Guapiabit—Serrano Homeland Archaeological District, Address Restricted, Hesperia vicinity, SG100001258

DELAWARE

Sussex County

Dinker—Irvin House, 310 Garfield Pkwy. Extended, Bethany Beach, SG100001259

MASSACHUSETTS

Worcester County

Worcester State Hospital Farmhouse, 361 Plantation St., Worcester, SG100001262

NEW JERSEY

Burlington County

Protestant Community Church of Medford Lakes, The 100 Stokes Rd., Medford Lakes Borough, SG100001263

Essex County

Collins House, 108 Baldwin St., Bloomfield Township, SG100001264

NEW YORK

Niagara County

Niagara Power Project Historic District, 5777 Lewiston Rd. (Power Vista), Lewiston, SG100001265

Rockland County

Tallman—Budke and Vanderbilt—Budke—Traphagen Houses, 131 Germonds Rd., Clarkstown, SG100001266

OHIO

Clark County

Lagonda State Bank, 2 E. Main St., Springfield, SG100001267

Franklin County

Yuster Building, 150 E. Broad St., Columbus, SG100001268

Hamilton County

Masonic Temple Price Hill Lodge, No. 524, 3301 Price Ave., Cincinnati, SG100001269

Traction Company Building, 432 Walnut St., Cincinnati, SG100001270

Summit County

East Liberty School, District No. 11, 3492 S. Arlington St., Green, SG100001271

OREGON

Deschutes County

Troy Field, 690 NW. Bond St., Bend, SG100001272

Lane County

Clearwater, Jacob, House, 1656 Clearwater Ln., Springfield, SG100001273

Triangle Lake Round Barn, 19941 OR 36, Blachly, SG100001274

Multnomah County

Eastmoreland Historic District, (Historic Residential Suburbs in the United States, 1830-1960 MPS), The district is generally bounded on the north by SE Woodstock Boulevard, to the west by Eastmoreland Golf Course, Portland, MP100001256

Portland Sanitarium Nurses' Quarters, 6012 SE. Yamhill St., Portland, SG100001275

Tillamook County

Pine Grove Community House, 225 Laneda Ave., Manzanita, SG100001276

A request for removal has been made for the following resource(s):

TENNESSEE

Hamblen County

Morristown College Historic District, 417 N. James St., Morristown, OT83003036

The State Historic Preservation Officer reviewed the following nomination and responded to the Federal Preservation Officer within 45 days of receipt of the nomination and supports listing the property in the National Register of Historic Places.

An additional documentation has been received for the following resource(s):

MAINE

Hancock County

Schoodic Peninsula Historic District (Additional Documentation), (Acadia National Park MPS), 1.5 mi. S of ME 186, Winter Harbor vicinity, AD07000614

Authority: 60.13 of 36 CFR part 60.

Dated: June 2, 2017.
J. Paul Loether,
Chief, National Register of Historic Places/National Historic Landmarks Program.

[FR Doc. 2017-13483 Filed 6-27-17; 8:45 am]

BILLING CODE 4312-52-P